DEPARTMENT OF DEFENSE

Office of the Secretary

Submission for OMB Review; Comment Request

ACTION: Notice.

The Department of Defense has submitted to OMB for clearance, the following proposal for collection of information under the provisions of Paperwork Reduction Act (44 U.S.C. Chapter 35).

Dates: Consideration will be given to all comments received by March 10, 2003.

Title and OMB Number: Evaluation of Army Benefits Center-Civilian (ABC-C) Retirement System; Survey; OMB Number 0702-[To Be Determined].

Type of Request: New collection.

Number of Respondents: 1,500.

Responses per Respondent: 1.

Annual Responses: 1,500.

Average Burden per Response: 15 minutes.

Annual Burden Hours: 375.

Needs and Uses: To assess the utility and efficiency of the Army Benefits Center-Civilian (ABC-C) retirement system. To this end, recently retired Army civilian employees whose retirements were processed by the Army Benefits Centers will be surveyed. The purpose of the survey is to determine the degree of customer satisfaction with the current system and to make recommendations for improvements.

Affected Public: Individuals or households.

Frequency: One time.

Respondent's Obligation: Voluntary.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: January 30, 2003.
Patricia L. Toppings,
Alternate OSD Federal Register Liaison Officer, Department of Defense.

[FR Doc. 03-2818 Filed 2-5-03; 8:45 am]

BILLING CODE 5001-08-M